POSTAL SERVICE

39 CFR Part 111

Domestic Shipping Services Pricing and Mailing Standards Changes

AGENCY: Postal Service™.

ACTION: Final rule.

SUMMARY: The Postal Service is revising Mailing Standards of the United States Postal Service, Domestic Mail Manual (DMM®), to reflect changes to prices and mailing standards for the following Shipping Services: Express Mail®; Priority Mail®; First-Class Package Service™; Parcel Select®; Parcel Return Service; Mailer Services; and Recipient Services.

DATES: Effective Date: January 22, 2012.

FOR FURTHER INFORMATION CONTACT: John Gullo (202) 268-8057 or Garry Rodriguez (202) 268-7281.

SUPPLEMENTARY INFORMATION: This final rule describes new prices and product features for Shipping Services, by class of mail, established by the Governors of the United States Postal Service®. New prices are available under Docket Number CP2012-2 on the Postal Regulatory Commission's Web site at http://www.prc.gov, and are also located on the Postal Explorer® Web site at http://pe.usps.com.

Shipping Services changes are identified by product as follows:

Express Mail

Postage Refunds

Current standards for Express Mail postage refunds are revised to add certain destinations where postage refunds will not be available for money back guarantee. The destinations include Guam, American Samoa, the Commonwealth of the Northern Mariana Islands, the Republic of the Marshall Islands, and the Federated States of Micronesia. These destinations will continue to have Express Mail postage refunds for loss.

Flat Rate Boxes

Express Mail Flat Rate packaging options are broadened to include Express Mail Flat Rate Boxes for customers who ship domestic parcels at retail, commercial base, and commercial plus prices. Two new Flat Rate Box sizes showing the inside measurements are:

• 11 inches x 8½ inches x 5½ inches

• 11⅞ inches x 3⅜ inches x 13⅝ inches

Both boxes are priced the same, and material mailed in a USPS®—produced Express Mail Flat Rate Box is charged a flat rate, regardless of the actual weight (up to 70 pounds) or domestic destination. All existing Express Mail standards and postage payment methods for retail, commercial base, and commercial plus prices apply.

Express Mail Flat Rate Boxes are available at many retail Post Office ™ locations and online at http://www.usps.com.

Priority Mail

Board Game Large Flat Rate Box

Priority Mail Flat Rate packaging options are being expanded to include the Priority Mail Board Game Large Flat Rate Box introduced June 2011. The new box is priced the same as the Priority Mail Large Flat Rate Box and also includes the APO/FPO and DPO destination discounted price. All services currently available with Priority Mail are available with the Board Game Large Flat Rate Box. The box is not available at retail Post Office locations but must be ordered online at http://www.usps.com.

Regional Rate Boxes

Regional Rate Boxes are available to Priority Mail customers who use USPS-produced packaging, with prices based on one of the three box sizes and zone to which it is shipped. In addition to commercial base and commercial plus prices, if any of the three Regional Rate Boxes is entered at retail, a 75-cent additional charge will be applied. Regional Rate Boxes are not available at retail Post Office locations but must be ordered online at http://www.usps.com.

Commercial Plus Cubic Threshold

Commercial plus cubic prices are not based on weight, but are charged on the cubic measurement of the mailpiece and the zone to which it is shipped. With this final rule, the commercial plus cubic volume threshold is reduced from 250,000 to 150,000 pieces to make cubic pricing more accessible to a larger group of customers.

Priority Mail Open and Distribute

Priority Mail Open and Distribute (PMOD) service provides alternatives for mailers who want to expedite mailings of other classes of mail to destination postal facilities.

The current PMOD tray box options are expanded to include a new flat tub tray box. Standards are also revised to add a new commercial plus pricing option for the half tray box, full tray box, extended managed mail (EMM) tray box, and flat tub tray box. The commercial plus PMOD tray box postage option is priced based on the tray box and zone.

Regional Rate Box C

The Postal Service introduces a new third option for Priority Mail Regional Rate—Regional Rate Box C. Box C is available for customers who send Priority Mail parcels and Merchandise Return Service (MRS) parcels when returned at Priority Mail prices. Regional Rate Box C is larger in size than its two counterparts (Box A and Box B), and measures 15 inches x 12 inches x 12 inches (outer dimensions), and 14¾ inches x 11¾ inches x 11½ inches (inner dimensions). Box C has a maximum weight limit of 25 pounds, and is only available as a top-loading box option. Priority Mail customers who ship parcels at retail, commercial base, and commercial plus prices can take advantage of Regional Rate boxes. Box C is not available for mailers using Business Reply Mail (BRM) or Parcel Return Service (PRS).

Customers must use USPS-produced Priority Mail Regional Rate Boxes to qualify for Regional Rate Box prices. Prices are based on box size (Box A, Box B, or the new Box C) and the destination zone. If the Priority Mail Regional Rate Box exceeds the maximum weight or is reconfigured, the applicable Priority Mail prices will be assessed.

All current Priority Mail Regional Rate Box services and mailing standards are applicable with this new packaging option. Customers may order these boxes online at http://www.usps.com.

First-Class Package Service

Presort Fee Clarification

First-Class Package Service was introduced on November 7, 2011. It replaced First-Class Mail commercial base and commercial plus parcels. In this final rule, the Postal Service clarifies that an annual mailing fee is only required for mailings entered at presorted First-Class Package Service prices.

Eligibility Standards

Eligibility standards for First-Class Package Service commercial base nonpresorted parcels are revised to require parcels with PC Postage® to have a qualifying shipping label and parcels using IBI meters for postage must electronically submit data to the Postal Service.

Postage Payment Clarification

In this final rule the Postal Service clarifies that postage on commercial base parcels may be affixed in an amount not less than the lowest applicable First-Class Package Service parcel price if authorized by Business Mailer Support.

Parcel Select

Machinable Dimensions

The Postal Service has explored the alignment of minimum and maximum ranges for optimal processing of machinable parcels on all parcel processing equipment. To correct inefficiencies in parcel processing and to align the standards with the current mail processing equipment capability, the Postal Service is revising the machinability dimensional criteria from the current 34 inches x 17 inches x 17 inches to 27 inches x 17 inches x 17 inches.

Eliminate $0.03 Barcode Discount

The $0.03 discount on machinable Parcel Select network distribution center (NDC) and machinable Parcel Select origin NDC (ONDC) barcoded presorted parcels is eliminated since it is expected that all parcels claiming presort or destination entry pricing will be required to bear an Intelligent Mail® package barcode (IMpb), a unique tracking barcode, or an extra services barcode effective January 22, 2012.

Rename Parcel Select Barcoded Nonpresort

As a result of the impending requirement for parcels claiming presort or destination entry pricing to bear an IMpb, a unique tracking, or extra services barcode, the current barcoded nonpresorted Parcel Select category will be renamed “Parcel Select Nonpresort.” The Postal Service also clarifies that all Parcel Select mailpieces must bear a unique tracking barcode or an IMpb.

The July 5, 2011 DMM change to standards required Parcel Select mailpieces to be forwarded or returned to sender at Parcel Select Nonpresort prices. This change necessitates a modification to Parcel Select Nonpresort to provide pricing for mailpieces exceeding 35 pounds up to 70 pounds. The Postal Service will also apply oversized pricing to the revised Parcel Select Nonpresort category similar to the destination entry, NDC, and ONDC presort categories.

Parcel Select Regional Ground

Parcel Select Regional Ground was introduced on April 17, 2011, and was designed as a regional product to provide delivery for mailpieces destinating within the same service area of the USPS processing plant where the mailing is entered. This product was never intended for use to the more distant zones; consequently, the option for mailers to prepare Parcel Select Regional Ground mailpieces, under the ONDC category, to zones 4 through 8 is eliminated. Mailers continue to have the option to mail packages destinating to zones 4 through 8 at Parcel Select Nonpresort prices.

Additionally, the Parcel Select Regional Ground .35 cubic foot maximum size limitation is eliminated. This will save customers time and provide a greater opportunity to use this product.

Parcel Select Lightweight

The Postal Service has obtained approval to create two products from its existing Standard Mail parcels/not flat-machinable (NFMs) product; and to transfer one category (with the exception of nonprofit) to its competitive product line. The category being transferred will become Parcel Select Lightweight, a subcategory of the Parcel Select product.

The Postal Service expects that the transfer of these Standard Mail® parcels into the new Parcel Select Lightweight category will provide for greater pricing flexibility and an expanded and more logical structure within the Parcel Select product line. Parcel Select Lightweight will offer machinable and irregular pricing options for mailpieces less than 1 pound; and will retain the physical standards, eligibility, and entry level pricing currently applicable to Standard Mail parcels. Parcel Select Lightweight postage is based on the price that applies to the weight increment of each addressed piece, charged per ounce or fraction thereof. However, Parcel Select Lightweight pieces will not be subject to carrier route pricing or preparation standards.

A mailing fee must be paid each 12-month period for each permit used to mail Standard Mail and/or Parcel Select Lightweight pieces. Mailers having annual Standard Mail presort permits may also make mailings under the new Parcel Select Lightweight category using their current permits.

Parcel Select Lightweight mailpieces will not be subject to forwarding or return to sender postage charges at the Parcel Select Nonpresort price or to the additional service fee. Undeliverable pieces will receive the same treatment currently provided to Standard Mail pieces.

Parcel Select Lightweight mailpieces will be required to bear a basic “Parcel Select” product marking in addition to a “Parcel Select Lightweight” price marking. Mailers may begin using these new markings on January 22, 2012, but will not be required to do so until October 1, 2012.

Parcel Select Future Changes

The Postal Service is also signaling its intent, at a future date, to assess an extended delivery area fee for Parcel Select mailpieces entered at specified destination entry locations. This fee will be applied to destination network distribution center (DNDC), destination sectional center facility (DSCF), and destination delivery unit (DDU) Parcel Select and Parcel Select Regional Ground mailpieces, and is intended to contribute to the product cost coverage for mailpieces destinating in areas with higher delivery costs related to geographic area, road infrastructure, or other factors. The Postal Service intends to provide the listing of applicable 5-digit ZIP™ Codes prior to, or concurrent with, the implementation of the new fee.

Parcel Return Service

Machinable Dimensions

To align the standards for machinable parcels with current mail processing equipment capability, the Postal Service revises the dimensional criteria for all machinable parcels from the current 34 inches x 17 inches x 17 inches to 27 inches x 17 inches x 17 inches.

Parcel Return Service RSCF

The Postal Service is expanding Parcel Return Service to provide authorized permit holders, or their agents, greater flexibility in the retrieval of their parcels by adding a new return sectional center facility (RSCF) service option.

Mailer Services

Premium Forwarding Service

Premium Forwarding Service® (PFS®) is revised to include an online application. The PFS online application is available at http://www.usps.com/premiumforwarding and is offered only to residential delivery customers. The application fee and recurring weekly installments are processed as services are rendered, and must be paid by credit card. Modifications or cancellation of the service can be done online only when the initial request was completed online.

Package Intercept

Package Intercept™ is a new domestic service that replaces the current recall of mail service. Package Intercept is not available to international and APO/FPO/DPO destinations or on mailpieces requiring a customs label. Customers wishing to use Package Intercept initiate the process by paying a per-piece fee. Package Intercept requests are active for 10 days. The USPS does not guarantee the interception of a mailpiece.

Package Intercept can be used for any mailable Express Mail, Priority Mail, First-Class Mail, First-Class Package Service, Parcel Select, and Package Services, letter, flat, or parcel with a tracking barcode. Parcels may not measure more than 108 inches in length and girth combined. Package Intercept is not available for any mailpiece that indicates surface-only transportation such as Label 127, “Surface Mail Only” or bears other hazardous materials markings such as “Consumer Commodity ORM-D”.

In addition to the fee to initiate the interception, all mailpieces that are redirected to a new address, to a Post Office as Hold For Pickup, or to the sender, will be subject to payment of additional postage to the new destination as applicable.

Package Intercept service will be implemented in three phases. In Phase One, effective January 22, 2012, Package Intercept will only be available by submitting PS Form 1509, Application for Package Intercept, at the Post Office of mailing. Redirect to sender will be the only redirection option available.

Phase Two, scheduled for April 2012, will be the introduction of an online application for commercial customers. The redirection options for commercial customers will be expanded to include redirect to a new address and to a Post Office as Hold For Pickup.

Phase Three, scheduled for June 2012, will be the introduction of an online application for retail customers. The redirection options for retail customers will also be expanded at that time to include redirect to a new address and to a Post Office as Hold For Pickup. As a result of the June 2012 phase, PS Form 1509 will then be retired.

The Package Intercept fee in effect January 22, 2012, (See Notice 123—Price List) will remain the same throughout the phase-to-phase implementation.

Recipient Services

Post Office Box™ Service

On July 29, 2011, the Postal Regulatory Commission (PRC) approved the Postal Service's request to move Post Office (PO) Boxes in 6,800 retail Post Office locations to the competitive (Shipping Services) product list.

As part of the Shipping Services price change, PO Box™ fees in some of these 6,800 locations will be priced under fee group C1 while most locations will be priced in six new fee groups, C2 through C7. Fee group prices ranges are being established, with specific fees to be announced later in a Postal Bulletin notice. All existing competitive PO Box service standards apply.

Hold for Pickup

As part of the introduction of First-Class Package Service to replace First-Class Mail commercial base and commercial plus parcels and move from the market dominant product offering, the Postal Service clarifies that Hold For Pickup eligibility is revised to include First-Class Package Service as an option.

Resources

The Postal Service provides additional resources to assist customers with this price change for Shipping Services. These tools include price lists, downloadable price files, and Federal Register Notices, which may be found on the Postal Explorer Web site at http://pe.usps.com.

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR Part 111 is amended as follows:

PART 111—[AMENDED]

1. The authority citation for 39 CFR Part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

Mailing Standards of the United States Postal Service, Domestic Mail Manual (DMM)

* * * * *

100 Retail Mail

* * * * *

110 Express Mail

113 Prices and Eligibility

1.0 Express Mail Prices and Fees

1.1 Prices Charged Per Piece

[Revise 1.1 as follows:]

Express Mail postage is charged for each addressed piece according to its weight and zone. Flat Rate Envelopes and Boxes are charged under 1.4.

1.2 Price Application

[Delete the last sentence of 1.2, in its entirety.]

* * * * *

[Revise the heading of 1.4 as follows:]

1.4 Flat Rate Packaging

[Revise the heading and text of 1.4.1 as follows:]

1.4.1 Flat Rate Packaging—Eligibility

Only USPS-produced or approved Flat Rate Envelopes and Boxes are eligible for the Flat Rate price and are charged a flat rate, regardless of the actual weight (up to 70 pounds) of the mailpiece or domestic destination. When sealing a Flat Rate Envelope or Box, the container flaps must be able to close within the normal folds. Tape may be applied to the flaps and seams to reinforce the container provided the design of the container is not enlarged by opening the sides, and the container is not reconstructed in any way.

* * * * *

[Add new 1.4.3 as follows:]

1.4.3 Flat Rate Boxes—Price Eligibility

Each USPS-produced Express Mail Flat Rate Box is priced at a flat rate regardless of the actual weight (up to 70 pounds) of the mailpiece or domestic destination. See Notice 123-Price List for prices.

* * * * *

114 Postage Payment Methods

* * * * *

2.0 Postage Refunds

Postage refunds may not be available if delivery was attempted within the times required for the specific service, or for any of the following reasons:

* * * * *

[Add new item 2.0i as follows:]

i. Postage refunds, other than for loss, may not be obtained if the Express Mail piece is destined to Guam, American Samoa, the Commonwealth of the Northern Mariana Islands, the Republic of the Marshall Islands, or the Federated States of Micronesia (see 608.2.4.1 for ZIP Codes).

* * * * *

120 Priority Mail

123 Prices and Eligibility

1.0 Priority Mail Prices and Fees

1.1 Price Application

[Revise the first sentence of 1.1 as follows:]

Except under 1.3 through 1.6, Priority Mail retail prices are based on weight and zone and are charged per pound; any fraction of a pound is rounded up to the next whole pound. * * *

* * * * *

1.5 Flat Rate Envelopes and Boxes

* * * * *

1.5.2 Flat Rate Boxes—Price and Eligibility

[Revise 1.5.2 as follows:]

Only USPS-produced Flat Rate Boxes are eligible for the Flat Rate Box prices. Each USPS-produced Priority Mail Flat Rate Box is charged a flat rate regardless of the actual weight (up to 70 pounds) of the mailpiece or domestic destination. See Notice 123—Price List for applicable prices. Priority Mail Flat Rate Boxes are as follows:

a. Small Flat Rate Box to domestic, APO/FPO, and DPO destinations.

b. Medium Flat Rate Boxes (FRB-1) or (FRB-2) to domestic, APO/FPO, and DPO destinations.

c. Board Game Large Flat Rate Box or Large Flat Rate Box to domestic destinations.

d. Board Game Large Flat Rate Box or Large Flat Rate Box and “special version of this box” identified with the additional logo: “Americasupportsyou.mil.” to APO/FPO and DPO destinations is priced less than the conventional domestic Large Flat Rate Boxes. If the special version of the APO/FPO Flat Rate Box is used for non-APO/FPO and DPO destination addresses, the domestic or international Large Flat Rate Box prices will apply.

[Renumber 1.6 through 1.10 as 1.7 through 1.11 and add new 1.6 as follows:]

1.6 Regional Rate Boxes

1.6.1 Price and Eligibility

Regional Rate Box prices are available to Priority Mail customers who use USPS-produced Priority Mail Regional Rate Boxes. Prices are based on box size and zone. When sealing a Regional Rate Box, the container flaps must be able to close within the normal folds. Tape may be applied to the flaps and seams to reinforce the container provided the design of the container is not enlarged by opening the sides and the container is not reconstructed in any way. Regional Rate Boxes exceeding the maximum weight as specified in 1.6.2, or the container flaps do not close within the normal folds will be assessed the applicable single-piece Priority Mail price.

1.6.2 Regional Rate Box Options

Regional Rate Box options are:

a. Box A: (Side loading or top loading box) has a maximum weight limit of 15 pounds.

b. Box B: (Side loading or top loading box) has a maximum weight limit of 20 pounds.

c. Box C: (Top loading box only) has a maximum weight limit of 25 pounds.

* * * * *

125 Mail Preparation

1.0 Preparation

1.1 Priority Mail Packaging Provided by the USPS

[Delete the last sentence of 1.1 in its entirety.]

* * * * *

200 Commercial Letters and Cards

* * * * *

210 Express Mail

213 Prices and Eligibility

1.0 Prices and Fees

1.1 Prices Charged per Piece

[Revise the first sentence of 1.1 as follows:]

Except for Flat Rate Envelopes under 1.5, Express Mail postage is charged for each addressed piece according to its weight and zone. * * *

1.2 Price Application

[Delete the fourth sentence of 1.2, in its entirety.]

* * * * *

1.5 Flat Rate Envelopes

[Revise 1.5 as follows:]

Only USPS-produced or approved Flat Rate Envelopes are eligible for the Flat Rate Envelope price and are charged a flat price, regardless of the actual weight (up to 70 pounds) of the piece or its domestic destination. When sealing a Flat Rate Envelope, the container flaps must be able to close within the normal folds. Tape may be applied to the flaps and seams to reinforce the container provided the design of the container is not enlarged by opening the sides and the container is not reconstructed in any way. See Notice 123—Price List.

* * * * *

214 Postage Payment and Documentation

* * * * *

3.0 Postage Refunds

Postage refunds may not be available if delivery was attempted within the times required for the specific service, or for any of the following reasons:

* * * * *

[Add new item 3.0i as follows:]

i. Postage refunds, other than for loss, may not be obtained if the Express Mail piece is destined to Guam, American Samoa, the Commonwealth of the Northern Mariana Islands, the Republic of the Marshall Islands, or the Federated States of Micronesia (see 608.2.4.1 for ZIP Codes).

* * * * *

240 Standard Mail

243 Prices and Eligibility

1.0 Prices and Fees for Standard Mail

* * * * *

1.5 Fees

1.5.1 Presort Mailing Fee

[Revise 1.5.1 as follows:]

A mailing fee must be paid each 12-month period for each permit used to mail Standard Mail and/or Parcel Select Lightweight pieces, except for qualifying full-service Intelligent Mail barcode mailings (see Notice 123—Price List).

* * * * *

300 Commercial Flats

* * * * *

310 Express Mail

313 Prices and Eligibility

1.0 Prices and Fees

1.1 Prices Charged per Piece

[Revise the first sentence of 1.1 as follows:]

Except for Flat Rate Envelopes under 1.5, Express Mail postage is charged for each addressed piece according to its weight and zone. * * *

1.2 Price Application

[Delete the fourth sentence of 1.2 in its entirety.]

* * * * *

1.5 Flat Rate Envelopes

[Revise 1.5 as follows:]

Only USPS-produced or approved Flat Rate Envelopes are eligible for the Flat Rate Envelope price and are charged a flat price, regardless of the actual weight (up to 70 pounds) of the piece or its domestic destination. When sealing a Flat Rate Envelope, the container flaps must be able to close within the normal folds. Tape may be applied to the flaps and seams to reinforce the container provided the design of the container is not enlarged by opening the sides and the container is not reconstructed in any way. See Notice 123—Price List.

* * * * *

314 Postage Payment and Documentation

* * * * *

3.0 Postage Refunds

Postage refunds may not be available if delivery was attempted within the times required for the specific service, or for any of the following reasons:

* * * * *

[Add new item 3.0i as follows:]

i. Postage refunds, other than for loss, may not be obtained if the Express Mail piece is destined to Guam, American Samoa, the Commonwealth of the Northern Mariana Islands, the Republic of the Marshall Islands, or the Federated States of Micronesia (see 608.2.4.1 for ZIP Codes).

* * * * *

340 Standard Mail

343 Prices and Eligibility

1.0 Prices and Fees for Standard Mail

* * * * *

1.4 Fees

1.4.1 Presort Mailing Fee

[Revise 1.4.1 as follows:]

A mailing fee must be paid each 12-month period for each permit used to mail Standard Mail and/or Parcel Select Lightweight pieces, except for qualifying full-service Intelligent Mail barcode mailings (see Notice 123—Price List).

* * * * *

400 Commercial Parcels

401 Physical Standards

* * * * *

2.0 Additional Physical Standards by Class of Mail

* * * * *

2.5 Parcel Select

2.5.1 General Standards

These standards apply to Parcel Select:

* * * * *

[Add new item 2.5.1c as follows:]

c. All Parcel Select mailpieces must bear a unique tracking barcode or Intelligent Mail package barcode prepared under 708.5.0.

2.5.2 Nonmachinable Parcel Select

[Revise the second sentence in the introductory paragraph of 2.5.2 as follows:]

* * * There are no nonmachinable prices for Parcel Select NDC Presort and ONDC Presort parcels. * * *

[Revise item 2.5.2a as follows:]

a. A parcel more than 27 inches long, 17 inches wide, or 17 inches high.

* * * * *

[Add new 2.5.4 as follows:]

2.5.4 Parcel Select Lightweight

Parcel Select Lightweight pieces must weigh less than 16 ounces, cannot exceed 108 inches in combined length and girth, and must be large enough to accommodate postage and other required elements on the address side of the piece.

* * * * *

402 Elements on the Face of a Mailpiece

* * * * *

2.0 Placement and Content of Markings

* * * * *

2.6 Parcel Select, Bound Printed Matter, Media Mail, and Library Mail Markings

2.6.1 Basic Markings

[Revise the first sentence of 2.6.1 to add Parcel Select Lightweight as follows:]

The basic required marking (e.g., “Parcel Select”, “Parcel Select Regional Ground”, “Parcel Select Lightweight”, “Bound Printed Matter”, “Media Mail”, “Library Mail”) must be printed on each piece claimed at the respective price. * * *

* * * * *

2.6.2 Parcel Select Markings

* * * * *

[Revise item 2.6.2d as follows:]

d. Nonpresort—“Parcel Select Nonpresort” or “Parcel Select NPS”.

[Add new 2.6.2e and 2.6.2f as follows:]

e. Regional Ground—“Parcel Select Regional Ground” or “Parcel Select RG”.

1. Origin SCF Entry—“OSCF”.

2. Origin NDC Entry—“ONDC”.

f. Lightweight—“Parcel Select Lightweight” or “PS Lightweight”.

* * * * *

410 Express Mail

413 Prices and Eligibility

1.0 Prices and Fees

1.1 Prices Charged per Piece

[Revise the first sentence of 1.1 as follows:]

Except for Flat Rate packaging under 1.5, Express Mail postage is charged for each addressed piece according to its weight and zone. * * *

1.2 Price Application

[Delete the fourth sentence of 1.2 in its entirety.]

* * * * *

[Revise the heading and text of 1.5 as follows:]

1.5 Flat Rate Packaging

Only USPS-produced or approved Flat Rate Envelopes and Boxes are eligible for the Flat Rate price and are charged a flat rate, regardless of the actual weight (up to 70 pounds) of the mailpiece or domestic destination. When sealing a Flat Rate Envelope or Box, the container flaps must be able to close within the normal folds. Tape may be applied to the flaps and seams to reinforce the container provided the design of the container is not enlarged by opening the sides and the container is not reconstructed in any way. For prices, see Notice 123—Price List.

* * * * *

414 Postage Payment and Documentation

* * * * *

3.0 Postage Refunds

Postage refunds may not be available if delivery was attempted within the times required for the specific service, or for any of the following reasons:

* * * * *

[Add new item 3.0i as follows:]

i. Postage refunds, other than for loss, may not be obtained if the Express Mail piece is destined to Guam, American Samoa, the Commonwealth of the Northern Mariana Islands, the Republic of the Marshall Islands, or the Federated States of Micronesia (see 608.2.4.1 for ZIP Codes).

* * * * *

420 Priority Mail

423 Prices and Eligibility

1.0 Prices and Fees

1.1 Price Application

The following price applications apply:

[Revise item 1.1a as follows:]

a. Priority Mail mailpieces are charged per pound; any fraction of a pound is rounded up to the next whole pound. For example, if a piece weighs 1.25 pounds, the weight (postage) increment is 2 pounds. The minimum postage amount per addressed piece is the 1-pound price. See exceptions for prices not based on weight or the minimum 1-pound price below.

* * * * *

[Revise items 1.1c through 1.1f and add new item 1.1g as follows:]

c. Commercial plus items are charged the ½-pound price for items up to ½ pound. Items over ½ pound are rounded up to the next whole pound.

d. Commercial plus cubic prices are not based on weight, but are charged by zone and cubic measurement of the mailpiece with any fraction of a measurement rounded down to the nearest ¼ inch. For example, if a dimension of a commercial plus cubic piece measures 12⅜ inches, it is rounded down to 12¼ inches.

e. Regional Rate Box prices are not based on weight but are priced based on box size and the zone to which it is sent.

f. Priority Mail items mailed under a specific customer agreement are charged according to the individual agreement.

g. Priority Mail Open and Distribute tray boxes are not based on weight but are charged based on the tray box and zone to which it is sent.

1.2 Commercial Base Prices

* * * * *

1.2.2 Regional Rate Box Prices

[Revise the introductory text of 1.2.2 as follows:]

Regional Rate Box prices are available to Priority Mail commercial base and commercial plus customers who use one of the USPS-produced Priority Mail Regional Rate Boxes and meet the requirements in 1.2.1. Prices are based on box size and zone. When sealing a Regional Rate Box, the container flaps must be able to close within the normal folds. Tape may be applied to the flaps and seams to reinforce the container provided the design of the container is not enlarged by opening the sides and the container is not reconstructed in any way. Regional Rate Boxes that exceed the maximum weight limit as specified in 1.6.2, or the container flaps do not close within the normal folds will be assessed the applicable Priority Mail single-piece prices. Regional Rate Box options are:

* * * * *

[Add new item 1.2.2c as follows:]

c. Box C: (Top loading box only) has a maximum weight limit of 25 pounds.

* * * * *

1.4 Commercial Plus Cubic

1.4.1 Commercial Plus Cubic Eligibility

[Revise the first sentence of 1.4.1 as follows:]

Commercial plus cubic prices are available to Priority Mail customers whose account volumes exceeded 150,000 pieces in the previous calendar year or who have a customer commitment agreement with the USPS. * * *

* * * * *

1.7 Flat Rate Envelopes and Boxes

* * * * *

1.7.2 Flat Rate Boxes—Price and Eligibility

[Revise 1.7.2 as follows:]

Only USPS-produced Flat Rate Boxes are eligible for the Flat Rate Box prices. Each USPS-produced Priority Mail Flat Rate Box is charged a flat rate regardless of the actual weight (up to 70 pounds) of the mailpiece or domestic destination. See Notice 123—Price List for applicable prices. Priority Mail Flat Rate Boxes are as follows:

a. Small Flat Rate Box to domestic, APO/FPO, and DPO destinations.

b. Medium Flat Rate Boxes (FRB-1) or (FRB-2) to domestic, APO/FPO, and DPO destinations.

c. Board Game Large Flat Rate Box or Large Flat Rate Box to domestic destinations.

d. Board Game Large Flat Rate Box or Large Flat Rate Box and “special version of this box” identified with the additional logo: “Americasupportsyou.mil.” to APO/FPO and DPO destinations is priced less than the conventional domestic Large Flat Rate Boxes. If the special version of the APO/FPO Flat Rate Box is used for non-APO/FPO and DPO destination addresses, the domestic or international Large Flat Rate Box prices will apply.

* * * * *

430 First-Class Mail

433 Prices and Eligibility

1.0 Prices and Fees for First-Class Package Service

* * * * *

1.3 Commercial Base Parcel Prices

* * * Nonpresorted First-Class Package Service parcels no more than 13 ounces in weight mailed under the following conditions are eligible for single-piece commercial base prices:

* * * * *

[Revise item 1.3b as follows:]

b. Nonpresorted mailings may be paid by:

1. Registered end-users of USPS-approved PC Postage products when using a qualifying shipping label, managed by the PC Postage system.

2. USPS-approved IBI postage meters that electronically transmit transactional data to USPS.

3. Permit imprint.

* * * * *

1.6 Presort Mailing Fee

[Revise the first sentence of 1.6 as follows:]

Payment of a presort mailing fee is required once each 12-month period at each office of mailing by any person or organization entering mailings at automation or Presorted First-Class Mail or any presorted First-Class Package Service prices. * * *

* * * * *

434 Postage Payment and Documentation

* * * * *

2.0 Postage Payment for Presorted First-Class Package Service Parcels

* * * * *

2.2 Affixed Postage for First-Class Package Service Parcels

[Revise 2.2 as follows:]

Each presorted First-Class Package Service parcel bearing affixed postage (not permitted for commercial plus parcels) must bear one of the following:

a. The full postage at the First-Class Package Service price for which it qualifies.

b. Postage in an amount not less than the lowest applicable First-Class Package Service parcel price if authorized by Business Mailer Support, plus full postage for additional ounces.

* * * * *

440 Standard Mail

443 Prices and Eligibility

1.0 Prices and Fees for Standard Mail

* * * * *

1.4 Presort Mailing Fee

1.4.1 Annual Mailing Fee

[Revise 1.4.1 as follows:]

A mailing fee must be paid each 12-month period for each permit used to mail Standard Mail and/or Parcel Select Lightweight pieces, except for qualifying full-service Intelligent Mail barcode mailings (see Notice 123—Price List).

* * * * *

450 Parcel Select

453 Prices and Eligibility

1.0 Prices and Fees

1.1 Price Application

[Revise the introductory text of 1.1, starting with the third sentence, as follows:]

* * * Except for Parcel Select Lightweight, the minimum price per piece is the 1-pound price. For DDU and DSCF pieces, postage is based on the price that applies to the weight increment of each addressed piece (see 3.4 for Parcel Select Regional Ground). Parcel Select Lightweight postage is based on the price that applies to the weight increment of each addressed piece, charged per ounce or fraction thereof, with any fraction of an ounce being rounded to the next whole ounce. The price categories for Parcel Select are as follows:

* * * * *

[Revise item 1.1c as follows:]

c. Nonpresort.

[Add a new 1.1d and 1.1e as follows:]

d. Regional Ground.

e. Lightweight.

1.2 Parcel Select Prices

[Revise the first sentence of 1.2 as follows:]

Pricing is available for Parcel Select at the Destination Entry, NDC Presort, ONDC Presort, and Nonpresort levels. * * *

1.3 Annual Mailing Fee

[Revise 1.3 as follows:]

An annual mailing fee is required for Parcel Select destination entry mailings and must be paid once each 12-month period at each Post Office of mailing by or for any mailer who enters mailings at the destination entry level. All destination entry prices are covered under the payment of an annual fee per office of mailing. An annual presort mailing fee is also required to mail at any Standard Mail price or at any Parcel Select Lightweight price; payment of one annual presort fee at each office of mailing covers mailings of both products. During the last 60 days of the current service period, advance payment of the annual mailing fees may be remitted for the subsequent 12-month period only. The established annual mailing fees in effect at the time of remittance will be assessed. See Notice 123—Price List for applicable annual mailing fees.

1.4 Computing Postage

1.4.1 Determining Single-Piece Weight

[Revise 1.4.1 as follows:]

To determine single-piece weight in any mailing of nonidentical-weight pieces, weigh each piece individually. To determine single-piece weight in a mailing of identical-weight pieces, weigh a sample group of at least 10 randomly selected pieces and divide the total sample weight by the number of pieces in the sample. Except for mailers using eVS or preparing Parcel Select lightweight mailings, when determining single-piece weight for Parcel Select mailpieces, express all weights in decimal pounds rounded off to two decimal places. Mailers using eVS may round off to four decimals, and eVS will automatically round to the appropriate decimal place. Mailers using Parcel Select Lightweight must express all single-piece weights in decimal pounds, rounded off to four decimal places. If a customer is using a manifest mailing system, the manifest weight field must be properly completed by adhering to the rules relative to the specific manifest.

1.4.2 Computing Postage for Affixed Postage

[Revise the first sentence of 1.4.2 as follows:]

For each piece, affix correct postage for the weight (including any surcharges) and, if applicable, the zone to which the piece is addressed, as shown in 1.2 through 1.4. * * *

* * * * *

[Revise the heading of 3.0 as follows:]

3.0 Price Eligibility for Parcel Select, Parcel Select Regional Ground and Parcel Select Lightweight

3.1 Destination Entry Price Eligibility

* * * * *

3.1.3 DNDC Prices

For DNDC prices, pieces must meet the applicable standards in 3.0 and the following:

* * * * *

[Revise item 3.1.3b as follows:]

b. Parcels must bear a barcode under 708.5.0 for the ZIP Code of the delivery address.

* * * * *

[Revise the heading and introductory text of 3.3 as follows:]

3.3 Parcel Select Nonpresort Price Eligibility

Parcel Select Nonpresort per piece prices apply to Parcel Select parcels that are barcoded (see Exhibit 3.3). The nonpresort price requires a minimum volume of 50 Parcel Select pieces, except when postage is paid by PC Postage which doesn't require a minimum volume of mailpieces. Mailings must meet one of the following conditions:

* * * * *

3.4 Parcel Select Regional Ground

[Revise the introductory paragraph of 3.4, and delete items 3.4a and b in their entirety as follows:]

Parcel Select Regional Ground is a nonpresort product which requires postage payment by permit imprint. Entry is at the OSCF or ONDC level for zones local, 1, 2, and 3.

3.4.1 General Eligibility

[Revise the introductory text of 3.4.1 as follows:]

Parcel Select Regional Ground prices are available for machinable parcels (see 401.1.5) that weigh 5 pounds or less when customers meet the following requirements:

* * * * *

3.4.3 Parcel Select Regional Ground—ONDC

[Revise 3.4.3 as follows:]

Parcel Select Regional Ground ONDC prices are available for parcels to zones local through 3, with the pieces for the ONDC service area segregated from the pieces outside the ONDC service area according to L601 and that meet requirements in 3.4.1.

* * * * *

[Renumber 3.5 through 3.8 as new 3.6 through 3.9 and add new 3.5 as follows:]

3.5 Parcel Select Lightweight

Parcel Select Lightweight mailings are subject to the following criteria:

a. All pieces must weigh less than 16 ounces.

b. Pieces are subject to specific volume, marking, and preparation requirements.

c. Extra services available with Parcel Select Lightweight are Delivery Confirmation, bulk insurance, bulk certificate of mailing, and return receipt for merchandise service.

d. Parcel Select Lightweight mailings are subject to the ZIP Code Accuracy standards and Move Update standards under 443.3.0.

3.5.1 General Eligibility

Parcel Select Lightweight parcels are presorted machinable or irregular parcels.

The following also applies:

a. Machinable pieces must meet the standards in 401.1.5.

b. Irregular pieces are subject to the requirements in 401.1.6.

c. Postage must be paid by permit imprint, postage evidencing systems (under 604.4.0), or by stamps precanceled by a mailer's postmark that includes the Parcel Select Lightweight price marking.

d. Each mailing must contain at least 200 pieces or 50 pounds of pieces.

e. Pieces must bear a unique IMpb or extra services barcode, including a postal routing code, prepared under 708.5.0. Effective January 7, 2013, parcels must include a unique IMpb with a postal routing code on each parcel.

f. Parcel Select Lightweight mailings may include an alternative addressing format under 602.3.0.

3.5.2 Price Application

Prices for Parcel Select Lightweight apply separately to machinable parcels and irregular parcels that meet the eligibility standards in 2.0 and 3.5 and the preparation standards in 455.8.0, 705.6.0, or 705.8.0. When pieces are combined under 705.6.0, pieces are eligible for the applicable prices when the combined total meets the eligibility standards. For example, when there are 10 pounds of combined machinable parcels and irregular parcels in a 5-digit sack, all pieces are eligible for the 5-digit prices.

3.5.3 Prices for Machinable Parcels

The following prices apply to Parcel Select Lightweight machinable parcels:

a. 5-Digit Price; the 5-digit price applies to qualifying machinable parcels that are dropshipped to a DNDC (or ASF when claiming DNDC prices), DSCF, or DDU and presented:

1. In a 5-digit/scheme (L606) sack containing at least 10 pounds of pieces or on a 5-digit/scheme (L606) pallet, according to standards in 705.8.10.

2. As one or more parcels that mailers drop ship to a DDU under 456.2.1.1f.

b. NDC Price; the NDC price applies to qualifying machinable parcels as follows under either of the following conditions:

1. When dropshipped to an ASF or NDC and presented in an ASF or NDC sack containing at least 10 pounds of parcels; or on an ASF or NDC pallet, according to standards in 705.8.10; or in an NDC/ASF container prepared under 705.21.0.

2. When presented at the origin acceptance office on an ASF or an NDC pallet containing at least 200 pounds of pieces.

c. Mixed NDC Price; the mixed NDC price applies to machinable parcels that are not eligible for 5-digit or NDC prices. Place machinable parcels at mixed NDC prices in origin NDC sacks or on origin NDC pallets, then in mixed NDC sacks or on mixed NDC pallets.

3.5.4 Prices for Irregular Parcels

The following prices apply to Parcel Select Lightweight irregular parcels:

a. 5-Digit Price; the 5-digit price applies to irregular parcels that are dropshipped to a DNDC (or ASF when claiming DNDC prices), DSCF, or DDU and presented:

1. In a 5-digit/scheme (L606) sack containing at least 10 pounds of pieces.

2. On a 5-digit/scheme (L606) pallet, according to 705.8.10.

3. As one or more parcels that mailers dropship to a DDU under 456.2.1.1f.

4. In 5-digit/scheme containers prepared under 705.21.0.

b. SCF Price; the SCF price applies to irregular parcels that are dropshipped and presented to a DSCF or DNDC:

1. In an SCF sack containing at least 10 pounds of parcels.

2. On an SCF pallet, according to 705.8.10.

3. In SCF containers prepared under 705.21.0.

c. NDC Price; the NDC price applies to qualifying irregular parcels as follows under either of the following conditions:

1. When dropshipped to an ASF or NDC and presented in an ASF or NDC sack containing at least 10 pounds of parcels; or on an ASF or NDC pallet, according to standards in 705.8.10; or in a NDC/ASF container prepared under 705.21.0.

2. When presented at the origin acceptance office on an ASF or NDC pallet containing at least 200 pounds of pieces.

d. Mixed NDC Price; the mixed NDC price applies to irregular parcels in origin NDC or mixed NDC containers that are not eligible for 5-digit, SCF, or NDC prices. Place irregular parcels at mixed NDC prices in origin NDC or mixed NDC sacks under 455.8.3 or on origin NDC or mixed NDC pallets under 705.8.10.

* * * * *

3.9 Hold for Pickup

[Revise renumbered 3.9 as follows:]

Only Parcel Select Nonpresort parcels and Parcel Select Regional Ground parcels are eligible for Hold For Pickup service and are held at a designated Post Office location for pickup by a specified addressee or designee (see 508.8.0).

454 Postage Payment and Documentation

1.0 Basic Standards for Postage Payment

1.1 Postage Payment Options

Mailing fees must be paid for the current 12-month period at the Postal Service facility where postage is paid for the mailing.

[Revise item 1.1a as follows:]

a. Permit imprint may be used for identical-weight pieces provided the mail can be separated at acceptance into groups that each contain pieces subject to the same zone and same combination of prices (e.g., all are zone 4, with an NDC presort discount).

* * * * *

455 Mail Preparation

1.0 General Information for Mail Preparation

* * * * *

1.8 Parcel Select Markings

* * * The following product markings are required:

* * * * *

[Revise item 1.8d as follows:]

d. Nonpresort—“Parcel Select Nonpresort” or “Parcel Select NPS”.

[Add new items 1.8e and 1.8f as follows:]

e. Regional Ground—“Parcel Select Regional Ground” or Parcel Select RG”.

1. Origin SCF Entry—“OSCF”.

2. Origin NDC Entry—“ONDC”.

f. Lightweight—“Parcel Select Lightweight” or “PS Lightweight”.

* * * * *

4.0 Preparing Destination Entry Parcel Select

* * * * *

4.3 Preparing Destination NDC (DNDC) Parcel Select

* * * * *

4.3.2 Basic Standards

Pieces must meet the applicable standards in 4.0 and the following criteria:

* * * * *

[Delete item 4.3.2c in its entirety and renumber items 4.3.2d and 4.3.2e as new items 4.3.2c and 4.3.2d.]

* * * * *

[Revise the heading of 6.0 as follows:]

6.0 Preparing Machinable Parcels

6.1 Definition

[Revise 6.1 as follows:]

Parcel Select machinable parcels must meet the physical standards in 401.1.5.

6.2 Basic Standards

Pieces must meet the applicable standards in 4.0 and the following criteria:

[Revise item 6.2a as follows:]

a. Must be part of a mailing of at least 50 Parcel Select pieces, except there is no minimum volume for nonpresorted parcels when postage is paid using PC Postage.

* * * * *

7.0 Preparing Parcel Select Regional Ground

7.1 Definition

[Revise the first sentence of 7.1 as follows:]

Parcel Select Regional Ground parcels (see 453.3.4.1) are lightweight parcels entered at eligible OSCF and ONDC for zones local, 1, 2, and 3 locations. * * *

7.2 Basic Standards

[Revise 7.2 as follows:]

Parcels must be barcoded, machinable (401.1.5), and weigh 5 pounds or less.

* * * * *

[Add new 455.8.0 as follows:]

8.0 Preparing Parcel Select Lightweight

8.1 Basic Standards

All mailings and all pieces in each mailing at Parcel Select Lightweight machinable and irregular prices are subject to the specific preparation standards in 8.2 and 8.3, and to these general standards:

a. All pieces must meet the standards for basic eligibility in 453.3.5.1.

b. Pieces in each mailing must be all machinable parcels or all irregular parcels as defined in 401.1.0, unless prepared under 8.2.1.

c. All mailings must meet the applicable general preparation standards in 1.0 through 4.0, and labeling standards in 708.6.0.

d. All pieces in the mailing must meet the specific sortation and preparation standards in 8.0 or the palletization standards in 705.8.0.

e. Sortation determines price eligibility under in 453.3.5.2 through 453.3.5.4.

8.2 Preparing Machinable Parcels

8.2.1 Sacking

Mailers may prepare 5-digit sacks only for parcels that will be dropshipped to a DNDC (or ASF when claiming DNDC prices), DSCF, or DDU. Mailers may prepare ASF or NDC sacks only for parcels that will be dropshipped to a DNDC (or ASF when claiming DNDC prices). There is no minimum for parcels prepared in 5-digit/scheme sacks entered at a DDU. Mailers choosing to combine the preparation of irregular parcels with machinable parcels placed in 5-digit/scheme sacks must prepare those sacks under 8.2.2a.

8.2.2 Sacking and Labeling

Preparation sequence, sack size, and labeling:

a. 5-digit/scheme (optional, but required for 5-digit price), see definition in 1.4.; allowed only for mail deposited at DNDC (or ASF when claiming DNDC prices), DSCF, or DDU. Sacks must contain a 10-pound minimum except at DDU entry which has no minimum; labeling:

1. Line 1: For 5-digit scheme sacks, use L606, Column B. For 5-digit sacks, use city, state, and 5-digit ZIP Code destination on pieces (see 4.0 for overseas military mail).

2. Line 2: For 5-digit scheme sacks, “PSLW MACH 5D SCH.” For 5-digit sacks, “PSLW MACH 5D.”

b. ASF (optional), allowed only for mail deposited at an ASF to claim DNDC price; 10-pound minimum; labeling:

1. Line 1: L602, Column B. DNDC price eligibility determined by Exhibit 453.3.1.3.

2. Line 2: “PSLW MACH ASF.”

c. NDC, allowed only for mail deposited at a DNDC to claim the NDC price; 10-pound minimum; labeling:

1. Line 1: L601, Column B. DNDC price eligibility determined by Exhibit 453.3.1.3.

2. Line 2: “PSLW MACH NDC.”

d. Origin NDC (required); no minimum; labeling:

1. Line 1: L601, Column B.

2. Line 2: “PSLW MACH NDC.”

e. Mixed NDC (required); no minimum; labeling:

1. Line 1: “MXD” followed by L601, Column B information for NDC serving 3-digit ZIP Code prefix of entry Post Office.

2. Line 2: “PSLW MACH WKG.”

8.3 Preparing Irregular Parcels

8.3.1 Sacking

Mailers may prepare 5-digit sacks only for parcels that will be dropshipped to a DNDC (or ASF when claiming DNDC prices), DSCF, or DDU. See 8.3.3 for restrictions on SCF, ASF, and NDC sacks. Mailers must prepare a sack when the quantities of mail for a required presort destination reaches 10 pounds of pieces. There is no minimum for parcels prepared in 5-digit/scheme sacks entered at a DDU. Mailers combining irregular parcels with machinable parcels in 5-digit/scheme sacks must prepare those sacks under 8.2.2a. Mailers may not prepare sacks containing irregular and machinable parcels to other presort levels.

8.3.2 Drop Shipment

A mailer using Priority Mail or Express Mail Open and Distribute to dropship Parcel Select Lightweight irregular parcels may prepare sacks containing fewer than 125 pieces or less than 15 pounds of mail.

8.3.3 Sacking and Labeling

Preparation sequence, sack size, and labeling:

a. 5-digit/scheme (optional, but required for 5-digit price), see definition in 1.4; allowed only for mail deposited at DNDC (or ASF when claiming DNDC prices), DSCF, or DDU. Sacks must contain a 10-pound minimum except at DDU entry which has no minimum; labeling:

1. Line 1: For 5-digit scheme sacks, use L606, Column B. For 5-digit sacks, use city, state, and 5-digit ZIP Code destination on pieces (see 4.0 for overseas military mail).

2. Line 2: For 5-digit scheme sacks, “PSLW IRREG 5D SCH.” For 5-digit sacks, “PSLW IRREG 5D.”

b. SCF, allowed only for mail deposited at a DSCF or a DNDC to claim SCF price; 10-pound minimum; labeling:

1. For Line 1, L002, Column C.

2. For Line 2, “PSLW IRREG SCF.”

c. ASF (optional), allowed only for mail deposited at an ASF to claim DNDC price; 10-pound minimum; labeling:

1. Line 1: L602, Column B. DNDC price eligibility determined by Exhibit 446.3.1, NDC/ASF—DNDC Price Eligibility.

2. Line 2: “PSLW IRREG ASF.”

d. NDC, allowed only for mail deposited at a DNDC to claim the NDC price; 10-pound minimum; labeling:

1. Line 1: L601, Column B. DNDC price eligibility determined by Exhibit 453.3.1.3.

2. Line 2: “PSLW IRREG NDC.”

e. Origin NDC (required); no minimum; labeling:

1. Line 1: L601, Column B.

2. Line 2: “PSLW IRREG NDC.”

f. Mixed NDC (required); no minimum; labeling:

1. Line 1: “MXD” followed by L601, Column B information for NDC serving 3-digit ZIP Code prefix of entry Post Office.

2. Line 2: “PSLW IRREG WKG.”

* * * * *

456 Enter and Deposit

* * * * *

2.0 Deposit

* * * * *

2.19 Parcel Select Regional Ground—Deposit at ONDC

[Revise 2.19 as follows:]

Parcel Select Regional Ground mailings deposited at the ONDC may include mailpieces for zones local, 1, 2, and 3, but pieces may be destined for addresses outside that ONDC service area.

* * * * *

500 Additional Mailing Services

503 Extra Services

* * * * *

2.0 Registered Mail

* * * * *

2.4 Mailing

* * * * *

[Revise the heading and text of 2.4.10 as follows:]

2.4.10 Redirection of Mail

Registered Mail may be redirected to the sender using Package Intercept under 507.5.

* * * * *

4.0 Insured Mail

* * * * *

4.2 Basic Information

* * * * *

4.2.2 Eligible Matter

The following types of mail may be insured:

* * * * *

[Revise item 4.2.2b as follows:]

b. Standard Mail and Parcel Select Lightweight pieces prepared as machinable or irregular parcels (bulk insurance only).

* * * * *

6.0 Return Receipt

* * * * *

6.2 Basic Information

* * * * *

6.2.2 Eligible Matter

Return receipt service is available for:

* * * * *

[Revise item 6.2.2c as follows:]

c. Standard Mail parcels or Parcel Select Lightweight pieces, when bulk insurance (for more than $200.00) is purchased at the time of mailing.

* * * * *

7.0 Restricted Delivery

* * * * *

7.2 Basic Information

* * * * *

7.2.2 Eligible Matter

Restricted Delivery service is available for:

* * * * *

[Revise item 7.2.2b as follows:]

b. Standard Mail parcels or Parcel Select Lightweight pieces, when bulk insurance (for more than $200.00) is purchased at the time of mailing.

* * * * *

8.0 Adult Signature

* * * * *

8.2 Basic Information

* * * * *

8.2.3 Eligible Matter

Adult Signature Required and Adult Signature Restricted Delivery are available for:

* * * * *

[Revise item 8.2.3c as follows:]

c. Parcel Select Nonpresort.

* * * * *

8.2.4 Ineligible Matter

Adult Signature Required and Adult Signature Restricted Delivery are not available for:

* * * * *

[Revise item 8.2.4b as follows:]

b. Standard Mail and Parcel Select Lightweight.

* * * * *

11.0 Signature Confirmation

* * * * *

11.2 Basic Information

* * * * *

11.2.3 Ineligible Matter

Signature Confirmation is not available for the following:

[Revise item 11.2.3a as follows:]

a. Express Mail, Periodicals, Standard Mail, and Parcel Select Lightweight.

* * * * *

12.0 Collect on Delivery (COD)

* * * * *

12.2 Basic Information

* * * * *

12.2.2 Eligible Matter

[Revise the introductory text of 12.2.2 as follows:]

COD service may be used for Express Mail, First-Class Mail, Priority Mail (excluding Critical Mail), and any Package Services or Parcel Select (except Parcel Select Lightweight) sub-category if:

* * * * *

13.0 Special Handling

* * * * *

13.2 Basic Information

* * * * *

13.2.2 Eligible Matter

[Revise 13.2.2 as follows:]

Special handling service is available only for First-Class Mail, Priority Mail (excluding Critical Mail), Package Services, and Parcel Select (except Parcel Select Lightweight) pieces.

* * * * *

505 Return Services

5.0 Parcel Return Service

5.1 Basic Information

5.1.1 Description

[Revise 5.1.1 as follows:]

Parcel Return Service (PRS) applies to parcels that are picked up in bulk by authorized permit holders or their agents. Permit holders guarantee payment of postage for all parcels mailed with a PRS label. By providing an approved PRS label to its customers, the merchant or other party designates the permit holder identified on the label as their agent for receipt of mail bearing that label, and authorizes the USPS to provide that mail to the permit holder or its designee. The permit holder must retrieve parcels at each of the return network distribution centers (RNDC). For this purpose, an RNDC is each NDC (but not any ASFs) listed in Exhibit 453.3.1.3. PRS permit holders also may retrieve parcels at one or more designated return sectional center facility (RSCF) or designated return delivery units (RDU). Payment for parcels returned under PRS is deducted from a separate advance deposit (postage-due) account funded through the Centralized Account Processing System (CAPS). The permit holder must be authorized to use eVS (see 705.2.9).

* * * * *

5.1.5 Application

Companies who wish to participate in PRS must send a request on company letterhead to the manager, Business Mailer Support (see 608.8.0 for address). The request must contain the following information:

* * * * *

[Revise item 5.1.5 c as follows:]

c. The price category or categories to be used, and the proposed retrieval locations (delivery units, sectional center facilities and network distribution centers).

* * * * *

5.1.6 Approval

The manager, Business Mailer Support reviews each request and proceeds as follows:

[Revise item 5.1.6a as follows:]

a. If the applicant meets the criteria, the manager, Business Mailer Support approves the letter of request and sends an authorization letter outlining the terms and conditions for the program.

* * * * *

5.1.9 Pickup Schedule and Location

[Revise 5.1.9 as follows:]

Permit holders or their agents must set up recurring or standing appointments to retrieve PRS parcels. If the permit holder (or agent) has existing appointments to deliver Parcel Select parcels to destination facilities and those facilities are one of the NDCs, designated RSCFs, or designated RDUs, those appointments can be used for retrieving PRS parcels at the same time. Permit holders or their agents must retrieve parcels on a regular schedule as follows:

* * * * *

[Renumber items 5.1.9b and 5.1.9c as 5.1.9c and 5.1.9d and add new item 5.1.9b as follows:]

b. From all listed RSCFs, at a minimum of every 24 hours, excluding Saturdays, Sundays and USPS holidays. The Postal Service maintains a list of active RSCFs and provides permit holders 30 days notice of changes to the list. This list may be obtained by contacting the manager, New Business Opportunities. (see 608.8.0 for address).

* * * * *

5.2 Postage and Fees

5.2.1 Postage

[Revise the introductory text of 5.2.1 as follows:]

There are three PRS price categories:

* * * * *

[Renumber item 5.2.1b as 5.2.1c and add new item 5.2.1b as follows:]

b. Parcel Return Service—RSCF. Parcels returned as Parcel Post to, and retrieved in bulk from, a designated SCF.

* * * * *

5.3 Prices

[Renumber 5.3.1 through 5.3.3 as 5.3.2 through 5.3.4. Add new 5.3.1 as follows:]

5.3.1 Parcel Return Service Prices

Parcel Return Service prices are based on the price that applies to the weight increment of each addressed piece, and on the designated return facility, RDU, RSCF, or RNDC. The price is charged per pound or fraction thereof; any fraction of a pound is considered a whole pound. For example, if an item weighs 4.225 pounds, the weight increment is 5 pounds. The minimum price per piece is the 1-pound price.

[Revise the heading and text of renumbered 5.3.2 as follows:]

5.3.2 Parcel Return Service—Nonmachinable Prices

Parcels exceeding the maximum machinable dimensions in 401.1.5 or are considered an outside parcel under 401.1.7 are subject to nonmachinable prices.

[Revise the heading and text of renumbered 5.3.3 as follows:]

5.3.3 Balloon and Oversized Prices

RSCF and RNDC parcels that weigh less than 20 pounds but measure more than 84 inches in combined length and girth are charged the applicable price for a 20-pound parcel (balloon price). Regardless of weight, any parcel that measures more than 108 inches (but not more than 130 inches) in combined length and girth must pay the oversized price.

* * * * *

6.0 Bulk Parcel Return Service

* * * * *

6.3 General Information

6.3.1 Description

[Revise the first sentence of 6.3.1 as follows:]

Bulk parcel return service (BPRS) allows mailers of large quantities of Standard Mail or Parcel Select Lightweight machinable parcels that are either undeliverable-as-addressed or opened and remailed by addressees to be returned to designated postal facilities. * * *

6.3.2 Availability

A mailer may be authorized to use BPRS when the following conditions apply:

[Revise items 6.3.2a and 6.3.2b as follows:]

a. All returned parcels are initially prepared as regular or Nonprofit Standard Mail, or Parcel Select Lightweight, and are machinable parcels as defined in 401.1.0.

b. At least 10,000 Standard Mail or Parcel Select Lightweight machinable parcels will be returned to a designated postal facility during a 12-month period.

* * * * *

[Revise item 6.3.2i as follows:]

i. Standard Mail or Parcel Select Lightweight parcels that qualify for a single-piece Package Services price under the applicable standards and that contain the name of the Package Services price in the mailer's ancillary service endorsement are not eligible for BPRS.

* * * * *

507 Mailer Services

1.0 Treatment of Mail

* * * * *

1.5 Treatment for Ancillary Services by Class of Mail

* * * * *

[Revise the heading and introductory text of 1.5.3 as follows:]

1.5.3 Standard Mail and Parcel Select Lightweight

Undeliverable-as-addressed (UAA) Standard Mail and Parcel Select Lightweight pieces are treated as described in Exhibit 1.5.3a and Exhibit 1.5.3k, with these additional conditions:

[Revise item 1.5.3a as follows:]

a. Standard Mail and Parcel Select Lightweight are forwarded only to domestic addresses.

[Revise the heading of Exhibit 1.5.3a as follows:]

Exhibit 1.5.3a Treatment of Undeliverable Standard Mail and Parcel Select Lightweight

* * * * *

[Revise Exhibit 1.5.3a footnotes 5c and 5d as follows:]

c. The endorsement “Change Service Requested” is not permitted for Standard Mail or Parcel Select Lightweight pieces containing hazardous materials under 601.10.0. Standard Mail containing hazardous materials must bear the endorsement “Address Service Requested,” “Forwarding Service Requested,” or “Return Service Requested.”

d. Standard Mail or Parcel Select Lightweight pieces can be forwarded or returned at the appropriate Media Mail or Library Mail price if the content of the mail qualifies as Media Mail or Library Mail under 173, 373, or 473 and the mail is marked “Media Mail” or “Library Mail” directly below the ancillary service endorsement.

* * * * *

[Revise Exhibit 1.5.3a footnotes 5f and 5g as follows:]

f. If a Standard Mail or Parcel Select Lightweight piece or any attachment to that piece is not opened by the addressee and the sender has guaranteed forwarding and return postage, the addressee may refuse delivery of the piece and have it returned to the sender without affixing postage. If a Standard Mail or Parcel Select Lightweight piece or any attachment to that piece is opened by the addressee, the addressee must affix the required postage to return the piece to the sender.

g. Standard Mail or Parcel Select Lightweight with bulk insurance or return receipt for merchandise must be endorsed “Address Service Requested,” “Forwarding Service Requested,” or “Return Service Requested.” Standard Mail with Delivery Confirmation must be endorsed “Address Service Requested,” “Forwarding Service Requested,” “Return Service Requested,” or “Change Service Requested.”

* * * * *

1.5.4 Package Services and Parcel Select

* * * * *

[Add new item 1.5.4g as follows:]

g. See 1.5.3 for instructions for undeliverable Parcel Select Lightweight pieces.

* * * * *

Exhibit 1.5.4 Treatment of Undeliverable Package Services Mail and Parcel Select

* * * * *

[Under Mailer Endorsement “Address Service Requested,” revise the first bullet under “If no change of address order on file” to remove the word “barcode” as follows:]

• Parcel Select: At the Parcel Select Nonpresort price plus the additional service fee.

* * * * *

[Under Mailer Endorsement “Address Service Requested,” revise the second sentence in the first bullet and item a under “If change of address order on file” by removing the word “barcoded” as follows:]

• Months 1 through 12: * * * Parcel Select forwarded as postage due to addressee at the Parcel Select Nonpresort price plus the additional service fee for Parcel Select.* * *

a. Parcel Select: At the Parcel Select Nonpresort price plus the additional service fee.

* * * * *

[Under Mailer Endorsement “Forwarding Service Requested,” revise the first bullet under “If no change of address order on file” to remove the word “barcode” as follows:]

• Parcel Select: At the Parcel Select Nonpresort price plus the additional service fee.

* * * * *

[Under Mailer Endorsement “Forwarding Service Requested,” revise the second sentence in the first bullet and item a under “If change of address order on file” to remove the word “barcode” as follows:]

• Months 1 through 12: * * * Parcel Select forwarded as postage due to addressee at the Parcel Select Nonpresort price plus the additional service fee for Parcel Select. * * *

a. Parcel Select: At the Parcel Select Nonpresort price plus the additional service fee.

* * * * *

[Under Mailer Endorsement “Return Service Requested,” revise the first bullet under “In all cases” to remove the word “barcode” as follows:]

• Parcel Select: At the Parcel Select Nonpresort price plus the additional service fee.

* * * * *

2.0 Forwarding

* * * * *

2.3 Postage for Forwarding

* * * * *

[Revise the heading and first two sentences of 2.3.5 as follows:]

2.3.5 Standard Mail and Parcel Select Lightweight

Generally, Standard Mail and Parcel Select Lightweight are subject to collection of additional postage from the mailer when forwarding service is provided by charging the Standard Mail weighted fee on all returns. Shipper Paid Forwarding, used in conjunction with Address Change Service (4.0), provides mailers of Standard Mail and Parcel Select Lightweight parcels an option of paying forwarding postage at the applicable single-piece First-Class Mail or Priority Mail price. * * *

2.3.6 Package Services and Parcel Select

[Revise the first sentence and add a new second sentence of 2.3.6 as follows:]

Package Services and Parcel Select pieces are subject to the collection of additional postage at the applicable price for forwarding; Parcel Select at the Parcel Select Nonpresort price plus the additional service fee and Package Services at the single-piece price for the specific class of mail. See 2.3.5 for forwarding instructions for Parcel Select Lightweight. * * *

* * * * *

3.0 Premium Forwarding Service

3.1 Prices and Fees

* * * * *

3.1.2 Weekly Reshipment Charge

[Revise 3.1.2 as follows:]

There is a reshipment charge for each Priority Mail shipment to one temporary address for each week of service requested. Except for online customers under 3.2.2b, upon submission of the application, the amount due for the total weeks requested must be paid in full.

3.1.3 Extension of Service

[Revise 3.1.3 as follows:]

Premium Forwarding Service (PFS) customers may contact the Post Office responsible for delivery to the primary address prior to the last shipment date and extend PFS service (up to 1 year maximum service from the initial start date) as needed. An extension of service may also be performed online at http://www.usps.com/premiumforwarding for customers who completed their application online. Except for online customers under 3.2.2b, an extension is processed only after the Post Office receives payment of the reshipment charges due for the total weeks of extension requested.

3.1.4 Early Termination of Service

[Revise 3.1.4 as follows:]

Except for online customers under 3.2.2b, a customer who terminates PFS early (e.g., a customer prepays for 10 weeks but returns to a primary address after 8 weeks, either temporarily or permanently) may request a refund for any unused weekly shipment charges from the Post Office serving the primary address. The application fee is nonrefundable.

3.2 Basic Standards

3.2.1 Description

[Revise the first sentence in 3.2.1 as follows:]

Except as provided in 3.2.2b, Premium Forwarding Service (PFS) provides residential delivery customers, and certain Post Office Box customers, an option to have all mail addressed to their primary address reshipped or rerouted to a temporary address mainly by means of a weekly Priority Mail shipment. * * *

3.2.2 Use

Participation in PFS is subject to the following standards:

[Revise items 3.2.2a and 3.2.2b as follows:]

a. Except as provided in 3.2.2b, PFS is available to residential delivery customers and to Post Office Box customers with a size-one or size-two Post Office Box.

b. Customers may submit a completed Form 8176, Premium Forwarding Service (PFS) Application, at the Post Office serving the primary address or online. Customer may complete an online application at http://www.usps.com/premiumforwarding. A PFS application completed online is only available for residential delivery customers. The application fee and recurring weekly installments are processed as services are rendered and must be paid by credit card. Modification or cancellation of the service can only be done online when the initial request was completed online.

* * * * *

3.3 Preparation

* * * * *

[Revise the heading and first sentence of 3.3.6 as follows:]

3.3.6 Standard Mail or Parcel Select Lightweight Parcels Not Requiring a Scan or Signature at Delivery

Eligible Standard Mail or Parcel Select Lightweight parcels that do not require a scan or signature at delivery are included in the weekly Priority Mail shipment provided they will fit. * * *

* * * * *

[Renumber current 5.0 through 8.0 as new 6.0 through 9.0 and add new 5.0 as follows:]

5.0 Package Intercept

5.1 Description of Service

Package Intercept service provides a method for customers to authorize redirection of any mailable domestic mailpiece to sender. If the mail item is found and redirected, additional postage is charged as provided under 5.2. Package Intercept requests are active for 10 days.

5.1.1 Eligibility

Package Intercept service is available for any Express Mail, Priority Mail, First-Class Mail, First-Class Package Service, Parcel Select, and Package Services, letter, flat, or parcel measuring not more than 108 inches in length and girth combined, with a tracking barcode.

5.1.2 Ineligible

Package Intercept is not available to international and APO/FPO/DPO destinations or on mailpieces requiring a customs label (608.2.4). Package Intercept is also not available for any mailpiece that indicates surface-only transportation such as Label 127, “Surface Mail Only” or bears other hazardous materials markings such as “Consumer Commodity ORM-D”.

5.2 Postage and Fees

Customers must pay a nonrefundable per-piece fee to initiate the process of attempting to intercept the mailpiece. All mailpieces that are redirected to the sender may be additionally subject to payment of the applicable postage. Payment of the Package Intercept fee may be made by cash, check, credit card, or debit card. Postage for the redirection to sender will be charged based on how the piece was originally mailed and collected as postage due.

5.3 Adding Extra Services

Extra Services cannot be added to mailpieces intercepted and redirected to sender.

5.4 Registered Mail

Package Intercept is available for eligible matter mailed using Registered Mail service. The maximum declared value for intercepted Registered Mail is $15,000,000. In addition to 5.2 and 5.5, customers requesting to intercept Registered Mail must write on the receipt “Withdrawn” and sign and surrender the receipt to the Post Office.

5.5 Request for Intercept

Retail and commercial customers may request Package Intercept by submitting PS Form 1509, Application for Package Intercept, at the Post Office of mailing along with valid photo identification. Intercepted mailpieces are only redirected to sender. Only the sender or authorized representative can request Package Intercept.

[Revise the heading of renumbered 6.0 as follows:]

6.0 Requesting Withdrawal and Disposal of a Mailing

[Delete renumbered 6.1 through 6.1.4, in their entirety. Renumber 6.2 through 6.2.4 as new 6.1 through 6.1.4. Revise the heading of new 6.1 as follows:]

6.1 Request Process

* * * * *

508 Recipient Services

* * * * *

7.0 Hold for Pickup

* * * * *

7.2 Basic Information

* * * * *

7.2.2 Basic Eligibility

[Revise the second sentence in 7.2.2 as follows:]

* * * Hold For Pickup service is also available with online and commercial mailings of Priority Mail (except Critical Mail), First-Class Package Service, Parcel Select Nonpresort parcels, and Parcel Select Regional Ground parcels when:

* * * * *

600 Basic Standards for All Mailing Services

* * * * *

604 Postage Payment Methods

* * * * *

5.0 Permit Imprint (Indicia)

* * * * *

5.3 Indicia Design, Placement, and Content

* * * * *

[Revise the heading and first sentence of 5.3.7 as follows:]

5.3.7 Standard Mail, Parcel Select and Package Services Format

A Standard Mail, Parcel Select or Package Services permit imprint indicia must contain the same information required in 5.3.6, except that the Standard Mail, the applicable Parcel Select (Parcel Select, Parcel Select Regional Ground, or Parcel Select Lightweight), or the applicable Package Services (Parcel Post, Bound Printed Matter, Media Mail or Library Mail) marking must be used instead of “First-Class Mail.” * * *

* * * * *

5.3.11 Indicia Formats

* * * * *

Exhibit 5.3.11 Indicia Formats for Official Mail and Other Classes

* * * * *

[Insert a new “Parcel Select” category title immediately above the current “Package Services” category title, move the current “Parcel Select” imprint example under the new “Parcel Select” category title and add two additional imprint examples as follows:]

Parcel Select

PARCEL SELECT US POSTAGE PAID NEW YORK, NY PERMIT NO. 1

PARCEL SELECT REGIONAL GROUND US POSTAGE PAID NEW YORK, NY PERMIT NO. 1

PARCEL SELECT LIGHTWEIGHT US POSTAGE PAID NEW YORK, NY PERMIT NO. 1

Package Services

[Delete the words “Parcel Select” from the Package Service/Parcel Select sub heading.]

* * * * *

700 Special Standards

703 Nonprofit Standard Mail and Other Unique Eligibility

* * * * *

2.0 Overseas Military Mail

2.1 Basic Standards

* * * * *

2.1.2 APO/FPO Priority Mail Flat Rate Boxes

[Revise 2.1.2 as follows:]

Only USPS-produced Flat Rate Boxes are eligible for the Flat Rate Box prices and are charged a flat rate regardless of the actual weight (up to 70 pounds) of the mailpiece or domestic destination. The Board Game Large Flat Rate Box, and Large Flat Rate Box and “special version of this box” identified with the additional logo: “Americasupportsyou.mil.” addressed to APO/FPO and DPO destinations are priced less than the conventional domestic Large Flat Rate Boxes. If the special version of the APO/FPO Flat Rate Box is used for non-APO/FPO and DPO destination addresses, the domestic or international Large Flat Rate Box prices will apply.

* * * * *

2.6 Express Mail Military Service (EMMS)

2.6.1 Availability

[Revise 2.6.1 as follows:]

EMMS, including Express Mail Flat Rate packaging under 113.1.4, is available between the United States and designated APOs and FPOs to provide Department of Defense personnel stationed overseas, and others entitled to APO and FPO mailing privileges, an expedited delivery service to or from the United States.

* * * * *

705 Advanced Preparation and Special Postage Payment Systems

* * * * *

2.0 Manifest Mailing System

* * * * *

2.9 Electronic Verification System

* * * * *

2.9.2 Availability

eVS may be used only for mail paid with a permit imprint and the following classes and subclasses of mail:

* * * * *

[Revise item 2.9.2g as follows:]

g. Parcel Select. Includes Parcel Select Lightweight; DNDC prices, DSCF prices, and DDU prices (including balloon and oversized prices); machinable parcels and nonmachinable parcels; origin NDC and NDC presort prices.

[Delete item 2.9.2h in its entirety and renumber items 2.9.2i through 2.9.2k as items 2.9.2h through 2.9.2j.]

* * * * *

6.0 Combining Mailings of Standard Mail, Package Services, and Parcel Select Parcels

[Revise the heading of 6.1 as follows:]

6.1 Basic Standards for Combining Parcels

6.1.1 Basic Standards

[Revise the introductory text of 6.1.1 as follows:]

Standard Mail parcels, Parcel Select Lightweight parcels, Package Services parcels, and other Parcel Select parcels (except Parcel Select Regional Ground) in combined mailings must meet the following standards:

* * * * *

[Revise the heading and text of 6.2 as follows:]

6.2 Combining Parcels—DNDC Entry

Mailers may combine Standard Mail Marketing Parcels 6 ounces or more, machinable Parcel Select Lightweight parcels, machinable Package Services parcels, and Parcel Select machinable parcels for entry at a NDC when authorized by the USPS under 6.1.4.

6.2.1 Eligible Prices

[Revise the first sentence of 6.2.1 as follows:]

Combined pieces may be eligible for Standard Mail, Parcel Post, Parcel Select Lightweight, Parcel Select DNDC/ASF, single-piece and Presorted Media Mail, single-piece and Presorted Library Mail, Bound Printed Matter DNDC, and single-piece and Presorted Bound Printed Matter prices. * * *

6.2.2 Additional Standards

[Revise the introductory text of 6.2.2 as follows:]

Standard Mail machinable parcels, Standard Mail marketing parcels 6 ounces or more, Parcel Select Lightweight machinable parcels, and Package Services and Parcel Select machinable parcels prepared for DNDC entry must meet the following conditions in addition to the basic standards in 6.1:

[Revise item 6.2.2a as follows:]

a. Each piece in a combined Standard Mail, Package Services, and Parcel Select mailing must meet the criteria for machinable parcels in 401.1.5 or the criteria in 401.2.4.2 for Standard Mail marketing parcels 6 ounces or more.

* * * * *

[Revise item 6.2.2e as follows:]

e. Mailers must deposit combined machinable parcels at NDCs or ASFs (see Exhibit 446.3.1) under applicable standards in 16.0.

* * * * *

6.3 Combining Parcels—Parcel Select ONDC Presort, NDC Presort, DSCF, and DDU Prices

6.3.1 Qualification

Combination requirements for specific discounts and prices are as follows:

[Revise item 6.3.1a as follows:]

a. When claiming Parcel Select ONDC or NDC Presort discounts, machinable Parcel Select Lightweight parcels, machinable Standard Mail parcels, and Standard Mail marketing parcels weighing 6 ounces or more may be combined with machinable Package Services parcels under 6.3 only if the mailpieces are palletized and each pallet or pallet box contains a 200-pound minimum.

[Delete item 6.3.1b in its entirety, and renumber items 6.3.1c and 6.3.1d as items 6.3.1b and 6.3.1c. Revise renumbered items 6.3.1b and 6.3.1c as follows:]

b. When claiming the DSCF price for Parcel Select, Parcel Select Lightweight, Bound Printed Matter parcels, all Standard Mail parcels may be combined with Package Services and Parcel Select parcels under 6.3.

c. All Standard Mail parcels may be combined with Package Services, Parcel Select parcels and Parcel Select Lightweight parcels prepared for DDU prices under 6.3.

6.3.2 Preparation and Prices

Combined parcels must be prepared as follows:

* * * * *

[Revise the second sentence of item 6.3.2b as follows:]

b. * * * All other requirements for Parcel Select DSCF prices, Parcel Select Lightweight prices and Standard Mail prices, as applicable, must be met. * * *

[Revise the last sentences of items 6.3.2b1 and 6.3.2b2 as follows:]

1. * * * After the minimum sack volume has been met, Standard Mail parcels and Parcel Select Lightweight parcels may be included in the sack or in overflow sacks.

2. * * * After the minimum pallet volume has been met, Standard Mail parcels and Parcel Select Lightweight parcels may be included on the pallet or in overflow sacks.

[Revise items 6.3.2b3 and 6.3.2b4 as follows:]

3. If palletized under the alternate pallet preparation where no pallet may contain fewer than 35 pieces and 200 pounds provided the average number of pieces on pallets qualifying for the DSCF price is at least 50, Standard Mail parcels or Parcel Select Lightweight parcels may not be combined with Package Services and Parcel Select parcels.

4. If palletized under the option to prepare 5-digit scheme or 5-digit pallets under the 36-inch-high (mail only) pallet minimum, any combination of Standard Mail, Parcel select Lightweight, Package Services, and Parcel Select parcels may be used to meet the minimum pallet height requirement.

* * * * *

[Revise item 6.3.2b6 as follows:]

6. Standard Mail parcels and Parcel Select Lightweight parcels are eligible for presorted prices according to 443 and 353.3.5 respectively.

[Revise the third sentence in the introductory text of item 6.3.2c as follows:]

c. * * * All other requirements for Parcel Select ONDC Presort or NDC Presort prices, Parcel Select Lightweight prices and Standard Mail prices must be met. The following additional requirements apply:

[Revise item 6.3.2c1 as follows:]

1. The minimum height requirement for each pallet or pallet box on a pallet may be met using any combination of Standard Mail, Parcel Select Lightweight, Package Services, and Parcel Select parcels.

* * * * *

[Revise the introductory sentence of item 6.3.2d as follows:]

d. Package Services, Parcel Select, Standard Mail, and Parcel Select Lightweight parcels qualifying for DDU prices:

* * * * *

6.4 Combining Package Services, Parcel Select, and Standard Mail—Optional 3-Digit SCF Entry

6.4.1 Entry at Designated SCFs

[Revise 6.4.1 as follows:]

Mailers may deposit pieces otherwise eligible for the Package Services, Parcel Select, Standard Mail, and Parcel Select Lightweight DNDC prices and the Standard Mail and Parcel Select Lightweight DSCF price at an SCF designated by the USPS for destination ZIP Codes listed in labeling list L607.

6.4.2 Qualification and Preparation

[Revise the introductory text of 6.4.2 as follows:]

Parcel Select and Bound Printed Matter machinable parcels, and Standard Mail parcels and Parcel Select Lightweight parcels, may be prepared for entry at designated SCFs under these standards:

[Revise item 6.4.2a as follows:]

a. Standard Mail parcels and Parcel Select Lightweight pieces that weigh less than 2 ounces and Standard Mail and Parcel Select Lightweight parcels that are tubes, rolls, triangles, and similar pieces may not be included.

* * * * *

[Revise item 6.4.2d as follows:]

d. Standard Mail machinable parcels, Standard Mail marketing parcels 6 ounces or more, and machinable Parcel Select Lightweight are eligible for the NDC presort level, DNDC price; Standard Mail marketing parcels less than 6 ounces and irregular Standard Mail and Parcel Select Lightweight parcels are eligible for the 3-digit presort level, DSCF price.

* * * * *

8.0 Preparing Pallets

* * * * *

8.5 General Preparation

* * * * *

8.5.2 Required Preparation

[Revise the introductory text of 8.5.2 as follows:]

The following standards apply to Periodicals, Standard Mail, Parcel Select, and Package Services, except Parcel Select mailed at NDC Presort, ONDC Presort, DSCF, and DDU prices.

* * * * *

8.6 Pallet Placards

* * * * *

8.6.5 Line 2 (Content Line)

Line 2 (content line) must meet these standards:

* * * * *

b. Codes. The codes shown below must be used as appropriate on Line 2 of sack, tray, and pallet labels.

CONTENT TYPE CODE

* * * * *

[In alphabetical order add new row “Parcel Select Lightweight” under “Content Type” column, and the corresponding entry “PSLW” under the “Code” column (right above the Periodicals row).]

* * * * *

17.0 Express Mail Open and Distribute and Priority Mail Open and Distribute

17.1 Prices and Fees

17.1.1 Basis of Price

[Revise 17.1.1 as follows:]

The basis of price for Express Mail and Priority Mail Open and Distribute is as follows:

a. Express Mail postage is based on the weight of the contents of the Open and Distribute shipment. Do not include the tare weight of the external container. The maximum weight for each container is 70 pounds.

b. Priority Mail commercial plus tray box postage is based on the tray box and zone. The maximum weight for each container is 70 pounds.

c. Except as provided above, Priority Mail postage is based on the weight of the contents of the Open and Distribute shipment. Do not include the tare weight of the external container. Do not apply Priority Mail dimensional weight pricing or Periodicals container prices to the external container. The minimum weight requirement for Open and Distribute sacks is 5 pounds, except for Open and Distribute sacks that contain qualified trays (trays prepared under the standards for the applicable class of mail). The maximum weight for each container is 70 pounds.

* * * * *

17.1.5 Payment Method

Postage payment methods are as follows:

* * * * *

[Revise item 17.1.5c as follows:]

c. Priority Mail postage may be paid under any of the options listed in 424.1.1, except Click-N-Ship. Priority Mail postage must be affixed to or hand-stamped on green Tag 161, pink Tag 190, the Open and Distribute tray box, or be part of the address label.

* * * * *

17.5.5 Tray Boxes—Express Mail Open and Distribute and Priority Mail Open and Distribute

[Revise the second sentence of 17.5.5 as follows:]

* * * Mailers must place a 1-foot or 2-foot managed mail tray, extended managed mail tray, or flat tub into the appropriate size tray box.

* * * * *

21.0 Optional Combined Parcel Mailings

21.1 Basic Standards for Combining Parcel Select, Package Services, and Standard Mail Parcels

21.1.1 Basic Standards

[Revise the introductory text of 21.1.1 as follows:]

Package Services parcels, Parcel Select parcels (including Parcel Select Lightweight but not Parcel Select Regional Ground parcels), and Standard Mail parcels in a combined parcel mailing must meet the following standards:

* * * * *

d. Combined mailings must meet the following minimum volume requirements:

[Revise items 21.1.1d1 and 21.1.1d2 as follows:]

1. Standard Mail—Minimum 200 pieces or 50 pounds of Standard Mail parcels.

2. Package Services and Parcel Select—Minimum 50 parcels combined.

* * * * *

21.2 Price Eligibility

* * * * *

21.2.2 Price Application

Apply prices based on the criteria in 400 and the following standards:

[Revise the first sentence of item 21.2.2a as follows:]

a. Standard Mail and Parcel Select machinable and irregular parcels are based on the container level and entry. * * *

* * * * *

21.3 Mail Preparation

21.3.1 Basic Standards

Prepare combined mailings as follows:

a. Different parcel types must be prepared separately for combined parcel mailings as indicated below:

[Revise items 21.3.1a1 through 21.3.1a4 as follows:]

1. Standard Mail, Parcel Select, Parcel Select Lightweight, and Package Services machinable parcels, or as provided under 401.1.5.2 for lightweight machinable parcels. Use “STD/PSVC MACH” for line 2 content labeling.

2. Standard Mail, Parcel Select, Parcel Select Lightweight, and Package Services irregular parcels weighing at least 2 ounces and up to, but not including, 6 ounces (APPS-machinable pieces), except for tubes, rolls, triangles, and other similarly irregularly shaped pieces. Use “STD/PSVC” for line 2 content labeling.

3. Standard Mail, Parcel Select, Parcel Select Lightweight and Package Services tubes, rolls, triangles, and similarly irregularly shaped parcels; and all parcels weighing less than 2 ounces (not APPS-machinable pieces). Use “STD/PSVC IRREG” for line 2 content labeling.

4. All parcel types may be combined in 5-digit and 5-digit scheme containers. Use “STD/PSVC PARCELS” for line 2 content labeling.

* * * * *

[Revise the heading and introductory text of 21.3.2 as follows:]

21.3.2 Combining Standard Mail, Parcel Select, and Package Services Machinable Parcels

Prepare and enter Standard Mail, Parcel Select, Parcel Select Lightweight, and Package Services machinable parcels, and Standard Mail Marketing parcels 6 ounces or more, as combined machinable parcels as shown in the table below.

* * * * *

[Revise the heading and introductory text of 21.3.3 as follows:]

21.3.3 Combining Standard Mail, Parcel Select, and Package Services Parcels (APPS-Machinable)

Prepare and enter Standard Mail, Parcel Select, Parcel Select Lightweight, and Package Services irregular parcels, and Standard Mail Marketing parcels (weighing at least 2 ounces, but less than 6 ounces, that are not tubes, rolls, triangles, or similarly irregularly shaped parcels) as combined APPS-machinable parcels as shown in the table below.

* * * * *

[Revise the heading and introductory text of 21.3.4 as follows:]

21.3.4 Combining Standard Mail, Parcel Select, and Package Services Irregular Parcels (Not APPS-Machinable)

Prepare and enter Standard Mail, Parcel Select, Parcel Select Lightweight, and Package Services, and Standard Mail Marketing parcels under 2 ounces, as combined not APPS-machinable parcels as shown in the table below.

* * * * *

708 Technical Specifications

* * * * *

6.0 Standards for Barcoded Tray Labels, Sack Labels, and Container Placards

* * * * *

6.2 Specifications for Barcoded Tray and Sack Labels

* * * * *

6.2.4 3-Digit Content Identifier Numbers

* * * * *

Exhibit 6.2.4 3-Digit Content Identifier Numbers

CLASS AND MAILING CIN HUMAN-READABLE CONTENT LINE

* * * * *

STANDARD MAIL

* * * * *

[Delete the heading for “STD Not-Flat-Machinable Pieces Less Than 6 Ounces—Nonautomation” and the six rows immediately beneath it in their entirety.]

[Delete the heading for “STD Not-Flat-Machinable 6 Ounces or More—Nonautomation” under the “Standard Mail” category and the five rows immediately beneath it in their entirety.]

* * * * *

PACKAGE SERVICES

* * * * *

[Insert a new category designator heading “Parcel Select” immediately above the “Parcel Select Machinable Parcels” subcategory as follows:]

PARCEL SELECT

* * * * *

[Insert headings and text for two new subcategories of Parcel Select Lightweight immediately above the “Combined Package Services and Parcel Select Parcels” subcategory as follows:]

Parcel Select Lightweight Machinable Parcels
5-digit sacks | 670 | STD MACH 5D.
5-digit scheme sacks | 670 | STD MACH 5D SCH.
ASF sacks | 672 | STD MACH ASF.
NDC sacks | 673 | STD MACH NDC.
mixed NDC sacks | 674 | STD MACH WKG.

Parcel Select Lightweight Irregular Parcels
5-digit sacks | 590 | STD IRREG 5D.
5-digit scheme sacks | 590 | STD IRREG 5D SCH.
SCF sacks | 596 | STD IRREG SCF.
ASF sacks | 571 | STD IRREG ASF.
NDC sacks | 570 | STD IRREG NDC.
mixed NDC sacks | 594 | STD IRREG WKG.

* * * * *

We will publish an appropriate amendment to 39 CFR part 111 to reflect these changes.

Stanley F. Mires,
Attorney, Legal Policy & Legislative Advice.

[FR Doc. 2011-31747 Filed 12-9-11; 8:45 am]

BILLING CODE 7710-12-P